DEPARTMENT OF TRANSPORTATION

Federal Highway Administration

Notice of Final Federal Agency Action on Proposed Transportation Project in Illinois

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway and transit project within the Tier 1 Elgin O'Hare—West Bypass study area, which is bounded roughly by I-90 on the north, I-294 on the east, I-290 on the south, and the Elgin O'Hare Expressway on the west and located in Cook and DuPage Counties in Illinois just northwest of the City of Chicago. The Federal actions, taken as a result of a tiered environmental review process under the National Environmental Policy Act, 42 U.S.C. 4321-4351 (NEPA), and implementing regulations on tiering, 40 CFR 1502.20, 40 CFR 1508.28, and 23 CFR part 771, determined certain issues relating to the proposed project. Those Tier 1 decisions will be used by Federal agencies in subsequent proceedings, including decisions whether to grant licenses, permits, and approvals for the highway and transit project. Tier 1 decisions also may be relied upon by State and local agencies in proceedings on the proposed project.

DATES: By this notice, the FHWA is advising the public of final agency actions subject to 23 U.S.C. 139(l)(1). A claim seeking judicial review of the Tier 1 Federal agency actions of the proposed highway and transit project will be barred unless the claim is filed on or before December 21, 2010. If the Federal law that authorizes judicial review of a claim provides a time period of less than 180 days for filing such claim, then that shorter time period still applies.

FOR FURTHER INFORMATION CONTACT: Mr. Norman R. Stoner, P.E., Division Administrator, Federal Highway Administration, 3250 Executive Park Drive, Springfield, Illinois 62703, Phone: (217) 492-4600, E-mail address: Norman.Stoner@ dot.gov. The FHWA Illinois Division Office's normal business hours are 7:30 a.m. to 4:15 p.m. You may also contact Ms. Diane M. O'Keefe, P.E., Illinois Department of Transportation, Deputy Director of Highways, Region One Engineer, 201 West Center Court, Schaumburg, Illinois 60196, Phone: (847) 705-4110. The Illinois Department of Transportation Region One's normal business hours are 8 a.m. to 4:30 p.m.

SUPPLEMENTARY INFORMATION: Notice is hereby given that the FHWA has issued a Tier 1 Final Environmental Impact Statement (FEIS) and Record of Decision (ROD) in connection with proposed highway and transit projects within the Elgin O'Hare—West Bypass study area in Cook and DuPage Counties in Illinois. Decisions in the Tier 1 ROD include, but are not limited to, the following:

a. Purpose and need for the project, including improving regional and local travel by reducing congestion, improving travel efficiency, improving access to O'Hare Airport from the west, and improving modal opportunities and connections.

b. Alternative 203 with South Connection Option D will be carried forward for further evaluation in the Tier 2 environmental review process.

c. Alternatives have been eliminated from further consideration and study, including but not limited to, the No-Action Alternative, Alternative 402, and South Connection Option A.

Interested parties may consult the ROD and FEIS for further information on each of the decisions described above.

The Tier 1 actions by the Federal agencies, and the laws under which such actions were taken, are described in the FEIS for the project approved on April 30, 2010, the ROD approved June 17, 2010, and in other documents in the FHWA administrative record. The scope and purpose of the Tier 1 FEIS are described in Sections 1.1 and 1.2 of the FEIS. The FEIS, ROD and other documents in the FHWA administrative record are available by contacting FHWA or the Illinois Department of Transportation at the addresses provided above. Project information can be viewed and downloaded from the project Web site http://www.elginohare-westbypass.org. The FEIS can also be downloaded from http://www.dot.il.gov/desenv/env.html, or hard copies of the FEIS and the ROD are available upon request.

This notice applies to all Federal agency Tier 1 decisions that are final within the meaning of 23 U.S.C. 139(l)(1) as of the issuance date of this notice and all laws under which such actions were taken, including, but not limited to:

1. General: National Environmental Policy Act (NEPA) [42 U.S.C. 4321-4351] Federal-Aid Highway Act [23 U.S.C. 109 and 23 U.S.C. 128].

2. Air: Clean Air Act [42 U.S.C. 7401-7671(q)].

3. Land: Section 4(f) of the Department of Transportation Act of 1966 [49 U.S.C. 303 and 23 U.S.C. 138].

4. Historic and Cultural Resources: Section 106 of the National Historic Preservation Act of 1966, as amended [16 U.S.C. 470(f) et seq].

5. Wetlands and Water Resources: Safe Drinking Water Act [42 U.S.C. 300(f)-300(j)(6)]; Wild and Scenic Rivers Act [16 U.S.C. 1271-1287].

6. Executive Orders: E.O. 11990 Protection of Wetlands; E.O. 11988 Floodplain Management; E.O. 12898 Federal Actions to Address Environmental Justice in Minority Populations and Low Income Populations.

(Catalog of Federal Domestic Assistance Program Number 20.205, Highway Research, Planning and Construction. The regulations implementing Executive Order 12372 regarding intergovernmental consultation on Federal programs and activities apply to this program).

Authority: 23 U.S.C. 139(l)(1)

Issued on: June 17, 2010.
Norman R. Stoner,
Division Administrator, Springfield, Illinois.

[FR Doc. 2010-15358 Filed 6-23-10; 8:45 am]

BILLING CODE 4910-22-P